DEPARTMENT OF HEALTH AND HUMAN SERVICES

Meetings of the Advisory Group on Prevention, Health Promotion, and Integrative and Public Health

AGENCY: Office of the Surgeon General of the United States Public Health Service, Office of the Assistant Secretary for Health, Office of the Secretary, Department of Health and Human Services.

ACTION: Notice.

SUMMARY: In accordance with Section 10(a) of the Federal Advisory Committee Act, Public Law 92-463, as amended (5 U.S.C. App.), notice is hereby given that two meetings are scheduled for the Advisory Group on Prevention, Health Promotion, and Integrative and Public Health (the “Advisory Group”). The meetings will be open to the public. Information about the Advisory Group and the agendas for these meetings can be obtained by accessing the following Web site: http://www.surgeongeneral.gov/initiatives/prevention/advisorygrp/index.html.

DATES: The first meeting will be held on June 11, 2015, from 11:30 a.m. to 2:30 p.m. EST. The second meeting will be held on August 31 from 9:00 a.m. to 5:00 p.m. EST—September 1, 2015, from 9:00 a.m. to 1:00 p.m. EST.

ADDRESSES: The first meeting on June 11, 2015, will be held via teleconference. The second meeting on August 31—September 1, 2015, will be held in Washington, DC Teleconference and meeting location information will be published closer to the meeting dates at: http://www.surgeongeneral.gov/initiatives/prevention/advisorygrp/index.html.

FOR FURTHER INFORMATION CONTACT: Office of the Surgeon General, 200 Independence Ave. SW.; Washington, DC 20201; 202-205-9517; prevention.council@hhs.gov.

SUPPLEMENTARY INFORMATION: The Advisory Group is a non-discretionary federal advisory committee that was initially established under Executive Order 13544, dated June 10, 2010, to comply with the statutes under Section 4001 of the Patient Protection and Affordable Care Act, Public Law 111-148. The Advisory Group was established to assist in carrying out the mission of the National Prevention, Health Promotion, and Public Health Council (the Council). The Advisory Group provides recommendations and advice to the Council.

The Advisory Group was terminated on September 30, 2012, by Executive Order 13591, dated November 23, 2011. Authority for the Advisory Group to be re-established was given under Executive Order 13631, dated December 7, 2012. Authority for the Advisory Group to continue to operate until September 30, 2015, was given under Executive Order 13652, dated September 30, 2013.

It is authorized for the Advisory Group to consist of no more than 25 non-federal members. The Advisory Group currently has 21 members who were appointed by the President. The membership includes a diverse group of licensed health professionals, including integrative health practitioners who have expertise in (1) worksite health promotion; (2) community services, including community health centers; (3) preventive medicine; (4) health coaching; (5) public health education; (6) geriatrics; and (7) rehabilitation medicine.

Meeting descriptions and relevant materials will be published closer to the meeting dates at: http://www.surgeongeneral.gov/initiatives/prevention/advisorygrp/index.html.

Members of the public have the opportunity to participate in each meeting and/or provide comments to the Advisory Group. Public comment will be limited to 3 minutes per speaker. Individuals who wish to participate in the meetings and/or provide comments must register by 12:00 p.m. EST on June 4, 2015, for the meeting on June 11, 2015, and by 12:00 p.m. EST on August 24, 2015, for the meeting on August 31-September 1, 2015. In order to register, individuals must send their full name and affiliation via email to prevention.council@hhs.gov. Individuals who need special assistance and/or accommodations, i.e., sign language interpretation or other reasonable accommodations, should indicate so when they register. Members of the public who wish to have materials distributed to the Advisory Group members at these scheduled meetings should submit those materials by June 4, 2015, for the June meeting and by August 24, 2015, for the August/September meeting.

Dated: May 6, 2015.
Corinne M. Graffunder,
Designated Federal Officer, Advisory Group on Prevention, Health Promotion, and Integrative and Public Health, Office of the Surgeon General.

[FR Doc. 2015-12104 Filed 5-18-15; 8:45 am]

BILLING CODE 4163-18-P